DEPARTMENT OF JUSTICE

Notice of Lodging of Proposed Consent Decree Under the Comprehensive Environmental Response, Compensation, and Liability Act

On March 23, 2015, the Department of Justice lodged a proposed consent decree with the United States District Court for the Middle District of Georgia in the lawsuit entitled United States v. Richard Middleton, et al., Civil Action No. 1:11-cv-00127-WLS.

The proposed consent decree resolves the United States' claims against: Richard Middleton, Circle Environmental, Inc. and Waterpollutionsolutions.com, Inc. (collectively the “Settling Defendants”), for cost recovery under Section 107 of the Comprehensive Environmental Response, Compensation, and Liability Act (“CERCLA”) relating to the release or threatened release of hazardous substances into the environment at the Circle Environmental #1 and #2 Superfund Sites (the “Sites”) in Terrell County, Georgia. Under the terms of the proposed consent decree, Settling Defendants will reimburse the United States' past costs in connection with the removal actions at the Sites in the amount of $285,000. In return, the United States agrees not to sue or take administrative action against Settling Defendants under Section 107 of CERCLA for past response costs. The case remains open against BSJR, LLC.

The publication of this notice opens a period for public comment on the consent decree. Comments should be addressed to the Assistant Attorney General, Environment and Natural Resources Division, and should refer to United States v. Richard Middleton et al., D.J. Ref. No. 90-11-3-10265. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $5.50 (25 cents per page reproduction cost) payable to the United States Treasury for a copy of the consent decree with Appendices, or $4.50 (25 cents per page reproduction cost) for a copy of the consent decree without Appendices.

Henry S. Friedman,
Assistant Section Chief, Environmental Enforcement Section, Environment and Natural Resources Division.

[FR Doc. 2015-07307 Filed 3-30-15; 8:45 am]

BILLING CODE 4410-15-P